DEPARTMENT OF TRANSPORTATION

Federal Aviation Administration

Notice of Intent To Rule on Disposal of Aeronautical Property at Coastal Carolina Regional Airport, New Bern, North Carolina

AGENCY: Federal Aviation Administration (FAA), DOT.

ACTION: Notice.

SUMMARY: The Federal Aviation Administration is requesting public comment on a request by Coastal Carolina Regional Airport, to release of land (7.071 acres) from federal obligations.

DATES: Comments must be received on or before November 6, 2019.

ADDRESSES: Comments on this notice may be mailed or delivered in triplicate to the FAA at the following address:

Memphis Airports District Office, Attn: Phillip J. Braden, Manager, 2600 Thousand Oaks Boulevard, Suite 2250, Memphis, TN 38118.

In addition, one copy of any comments submitted to the FAA must be mailed or delivered to Mr. Andrew Shorter, Airport Director, Coastal Carolina Regional Airport at the following address: 200 Terminal Drive, New Bern, NC 28562.

FOR FURTHER INFORMATION CONTACT: Phillip J. Braden, Manager, Federal Aviation Administration, Memphis Airports District Office, 2600, Thousand Oaks Boulevard, Suite 2250, Memphis, TN 38118-2482; telephone: (901) 322-8181. The application may be reviewed in person at this same location, by appointment.

SUPPLEMENTARY INFORMATION: The FAA proposes to rule and invites public comment on the request to release property for disposal at Coastal Carolina Regional Airport, 200 Terminal Dr, New Bern, NC 28562, under the provisions of 49 U.S.C. 47107(h)(2). The FAA determined that the request to release property at Coastal Carolina Regional Airport (EWN) submitted by the Sponsor meets the procedural requirements of the Federal Aviation Administration and the release of these properties does not and will not impact future aviation needs at the airport. The FAA may approve the request, in whole or in part, no sooner than thirty days after the publication of this notice.

The request consists of the following: The Coastal Carolina Regional Airport and North Carolina Department of Transportation are proposing the release of airport property totaling 7.071 acres. The land requested for release is the right of way of Terminal Drive and Airline Drive, two access roads link the airport to Williams Road and Airport Road. Terminal Drive provides the only route to access the commercial terminal at Coastal Carolina Regional Airport. It is a circular/loop road that currently operates in a one-way, counter clockwise direction. It is anticipated that the upcoming Highway 70 improvement project will significantly increase “cut-through” traffic on Terminal Drive. For safety and efficiency reasons, it is critical to alter the traffic flow, allowing this non-airport traffic to proceed without having to pass directly through the airport. Therefore, the North Carolina Department of Transportation (NCDOT) has designed a traffic circle that will allow the eastern portion of Terminal Drive to be converted to a two-way thoroughfare. This request will release this property from federal obligations. This action is taken under the provisions of 49 U.S.C. 47107(h)(2).

Any person may inspect the request in person at the FAA office listed above under FOR FURTHER INFORMATION CONTACT.

In addition, any person may, upon request, inspect the request, notice and other documents germane to the request in person at the Coastal Carolina Regional Airport.

Issued in Memphis, Tennessee on September 25, 2019.
Phillip J. Braden,
Manager, Memphis Airports District Office, Southern Region.

[FR Doc. 2019-21857 Filed 10-4-19; 8:45 am]

BILLING CODE 4910-13-P